DEPARTMENT OF HEALTH AND HUMAN SERVICES

Centers for Disease Control and Prevention

Opportunity for Businesses To Partner With NIOSH To Incorporate Electronic Sensors Into Respirator Filter Cartridges; Correction

In the notice document appearing on page 48498 in the Federal Register Vol. 69, No. 153, Tuesday, August 10, 2004, make the following correction:

On page 48498 under the DATES heading, it should read: Submit letters of interest within 30 days after the date of publication of this correction notice in the Federal Register. Also, on this same page under the heading ADDRESSES should read: Interested manufacturers should submit a letter of interest with information about their capabilities to the following e-mail address: esli@cdc.gov.

On page 48499 under the heading FOR FURTHER INFORMATION CONTACT change to read: esli@cdc.gov.

Dated: August 25, 2004.
James D. Seligman,
Associate Director for Program Services, Centers for Disease Control and Prevention (CDC).

[FR Doc. 04-19931 Filed 8-31-04; 8:45 am]

BILLING CODE 4163-18-P